DEPARTMENT OF COMMERCE

Foreign-Trade Zones Board

[Order No. 1914]

Authority To Manufacture Carbon Fiber for the U.S. Market Not Approved; Foreign-Trade Subzone 148C; Toho Tenax America, Inc.; Rockwood, Tennessee

Pursuant to its authority under the Foreign-Trade Zones Act of June 18, 1934, as amended (19 U.S.C. 81a-81u), the Foreign-Trade Zones Board (the Board) adopts the following Order:

Whereas, the Industrial Development Board of Blount County, grantee of Foreign-Trade Zone 148, has requested authority on behalf of Toho Tenax America, Inc. (TTA), to manufacture carbon fiber under zone procedures for the U.S. market within Subzone 148C at the TTA facility in Rockwood, Tennessee, (FTZ Docket 57-2010, filed September 29, 2010);

Whereas, notice inviting public comment has been given in the Federal Register (75 FR 61696, 10/6/2010; 75 FR 74002, 11/30/2010; 77 FR 73978, 12/12/2012; and 77 FR 75972, 12/26/2012) and the application has been processed pursuant to the FTZ Act and the Board's regulations; and,

Whereas, the Board adopts the findings and recommendations of the examiner's report, and finds that the requirements of the FTZ Act and the Board's regulations have not been satisfied;

Now, therefore, the Board hereby does not approve the application requesting authority to manufacture carbon fiber for the U.S. market under zone procedures within Subzone 148C at the TTA facility located in Rockwood, Tennessee.

Signed at Washington, DC, this 29th day of August 2013.
Paul Piquado,
Assistant Secretary of Commerce, Alternate Chairman, Foreign-Trade Zones Board.

Attest:

Andrew McGilvray,
Executive Secretary.

[FR Doc. 2013-21900 Filed 9-6-13; 8:45 am]

BILLING CODE 3510-DS-P